DEPARTMENT OF ENERGY

Federal Energy Regulatory Commission

[Docket No. RP04-64-000]

Indicated Shippers, Complainant, v. Trunkline Gas Company, Respondent; Notice of Complaint Requesting Fast-Track Processing

November 24, 2003.

Take notice that on November 21, 2003, pursuant Rule 206 of the Federal Energy Regulatory Commission's (Commission) Rules of Practice and Procedure, 18 CFR 385.206 (2003), the Indicated Shippers filed a Complaint Requesting Fast Track Processing against Trunkline Gas Company (Trunkline). The Indicated Shippers allege that Trunkline has failed to comply with Section 4 of the Natural Gas Act as well as the Commission's regulations, 18 CFR 154.1(b), 18 CFR 154.204, 18 CFR 284.7(c), by posting quality limitations through a long-term Critical Notice in lieu of proposing changes to its tariff through a filing with the Commission.

The Indicated Shippers request that the Commission order Trunkline to cease and desist from its current practice of posting long-term OFOs to impose quality specifications.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: December 11, 2003.

Magalie R. Salas,
Secretary.

[FR Doc. E3-00418 Filed 12-01-03; 8:45 am]

BILLING CODE 6717-01-P